DEPARTMENT OF THE INTERIOR

Bureau of Land Management

[15XL LLIDB00100 LF1000000.HT0000.LXSS024D0000 241A 4500077797]

Notice of Public Meeting: Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held April 21, 2015, at the Ontario, Oregon Clarion Inn, located at 1249 Tapadera Avenue, Ontario, Oregon 97914, beginning at 9:00 a.m. and adjourning at 4:00 p.m. Members of the public are invited to attend. A public comment period will be held at 11:00 a.m.

FOR FURTHER INFORMATION CONTACT: Marsha Buchanan, Supervisory Administrative Specialist and RAC Coordinator, BLM Boise District, 3948 Development Ave., Boise, Idaho 83705, Telephone (208) 384-3364.

SUPPLEMENTARY INFORMATION: The 15-member Council advises the Secretary of the Interior, through the BLM, on a variety of planning and management issues associated with public land management in southwestern Idaho. During the April meeting the Boise District Council will meet with the Southeast Oregon Council to discuss the Tri-State project. Following that discussion the Boise Council will introduce new members and organize for the upcoming term, to include election of Council leadership. BLM staff will update RAC members on the travel plan process and upcoming landscape projects. Agenda items and location may change due to changing circumstances. The public may present written or oral comments to members of the Council. At each full RAC meeting, time is provided in the agenda for hearing public comments. Depending on the number of persons wishing to comment and time available, the time for individual oral comments may be limited. Individuals who plan to attend and need special assistance should contact the BLM Coordinator as provided above. Persons who use a telecommunications device for the deaf (TDD) may call the Federal Information Relay Service (FIRS) at 1-800-877-8339 to contact the above individual during normal business hours. The FIRS is available 24 hours a day, 7 days a week, to leave a message or question with the above individual. You will receive a reply during normal business hours.

Dated: March 19, 2015.
James M. Fincher,
District Manager.

[FR Doc. 2015-06904 Filed 3-25-15; 8:45 am]

BILLING CODE 4310-GG-P